NATIONAL AERONAUTICS AND SPACE ADMINISTRATION

[Notice (06-021)]

Privacy Act of 1974; Privacy Act System of Records

AGENCY: National Aeronautics and Space Administration (NASA).

ACTION: Notice of Privacy Act system of records.

SUMMARY: Each Federal agency is required by the Privacy Act of 1974 to publish a description of a systems of records it maintains containing personal information when that system is substantially revised, deleted, or created. This notice provides notification that NASA has established a Freedom of Information Act (FOIA) tracking system. This system is designed to maintain records on individuals who make a FOIA request to NASA. This new system will enable NASA Center FOIA offices to track the progress of the FOIA request until the action is closed. Information being collected and maintained will assist the FOIA offices with tracking the FOIA request and ensuring proper processing under the FOIA multi-tracked “first in—first out” processing system.

DATES: The effective date of this notice is 30 days after publication. Comments must be received in writing on or before 30 days after publication.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

NASA 10FOIA

System Name:

NASA Freedom of Information Act System.

Security Classification:

None.

System Location:

Location 1, as set forth in Appendix A.

Categories of Individuals Covered by the System:

Individuals requesting NASA records under the Freedom of Information Act.

Categories of Records in the System:

Records in this system include a summary of NASA documentation requested under each FOIA request, as well as personal information about the individual requesters including names, home addresses, home telephone numbers, and email addresses. Personal information is being collected and maintained from requesters in order to ensure that the NASA FOIA Offices will be able to properly respond to their FOIA request.

Authority for Maintenance of the System:

42 U.S.C. 2473; 44 U.S.C. 3101; 5 U.S.C 552; 14 CFR part 1206.

Routine Uses of Records Maintained in the System, Including Categories of Users and the Purpose of Such Uses:

Any disclosures of information will be compatible with the purpose for which the Agency collected the information. The records and information in these records may be used to:

(1) Provide information to NASA support contractors who are responsible for the tracking of individual FOIA requests under the Freedom of Information Act; (2) Disclosure may be made to a congressional office from the record of an individual in response to an inquiry from the congressional office made at the request of that individual; and (3) Standard routine uses 1 through 4 inclusive as set forth in Appendix B.

Policies and Practices for Storing, Retrieving, Accessing, Retaining, and Disposing of Records in the System:

Storage:

Stored on a NASA secure server as electronic records.

Retrievability:

Records may be searched by name of requester, business name or address of requester.

Safeguards:

Approved security plans for these systems have been established in accordance with OMB Circular A-130, Management of Federal Information Resources. Individuals will have access to the system only in accordance with approved authentication methods. Only key authorized employees with appropriately configured system roles can access the systems and only from workstations within the NASA's Intranet.

Retention and Disposal:

Records are retained in computer databases and managed, retained and dispositioned in accordance with the guidelines defined in the NASA Procedure & Guidelines (NPG) 1441.1D, NASA Records Retention Schedules (NRRS), Schedule 1, Item 49.

System Manager(s) and Address:

System Manager: Principal Agency FOIA Officer, Office of Public Affairs, Location 1, as set forth in Appendix A.

Subsystem Managers: Center FOIA Officers, located within locations 2-11, as set forth in Appendix A.

Notification Procedure:

Individuals interested in inquiring about their records should notify the system manager or subsystem manager at the appropriate NASA Center, as set forth in Appendix A.

Record Access Procedure:

Individuals who wish to gain access to their records should submit their request in writing to the system manager or subsystem manager at the appropriate NASA Center, as set forth in Appendix A.

Contesting Record Procedures:

The NASA regulations governing access to records, procedures for contesting the contents and for appealing initial determinations are set forth in Title14, Code of Federal Regulations, Part 1212.

Record Source Categories:

Information is collected directly from individuals making Freedom of Information Act requests.

Exemptions Claimed for the System:

None.

Dated: March 22, 2006.
Patricia L. Dunnington,
Chief Information Officer.

[FR Doc. E6-4488 Filed 3-27-06; 8:45 am]

BILLING CODE 7510-13-P